DEPARTMENT OF LABOR

Employment and Training Administration

[TA-W-64,979]

Fiberweb, PLC, Simpsonville, SC; Notice of Negative Determination on Reconsideration

On May 12, 2009, the Department issued an Affirmative Determination Regarding Application for Reconsideration for the workers and former workers of the subject firm. The notice will soon be published in the Federal Register.

The initial investigation resulted in a negative determination based on the finding that imports of filtration media did not contribute importantly to worker separations at the subject firm and no shift of production to a foreign source occurred.

In the request for reconsideration, the petitioner alleged that the workers of the subject firm also produced non-filtration products, specifically nonwoven fabrics used in medical applications, hygiene applications and nonwoven rolled goods. The petitioner also alleged that the subject firm shifted production of non-filtration products abroad and that there was an increase in imports of non-filtration products.

The Department of Labor contacted a company official to verify this information. The company official stated that the subject firm ceased production of the non-filtration products at the end of 2006 and that none of the articles outlined by the petitioner were manufactured by workers of the subject firm since 2006.

When assessing eligibility for TAA, the Department exclusively considers production and import impact during the relevant time period (one year prior to the date of the petition). Therefore, events occurring prior to January 22, 2008 are outside of the relevant period and are not relevant in this investigation.

Conclusion

After reconsideration, I affirm the original notice of negative determination of eligibility to apply for worker adjustment assistance for workers and former workers of Fiberweb, PLC, Simpsonville, South Carolina.

Signed at Washington, DC, this 9th day of June 2009.
Elliott S. Kushner,
Certifying Officer, Division of Trade Adjustment Assistance.

[FR Doc. E9-14332 Filed 6-17-09; 8:45 am]

BILLING CODE 4510-FN-P